DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Weather Modification Activities Reports.

OMB Control Number: 0648-0025.

Form Number(s): NOAA Forms 1704ar1 and 1704r1.

Type of Request: Regular submission (extension of a current information collection).

Number of Respondents: 55.

Average Hours per Response: 30 minutes.

Burden Hours: 55.

Needs and Uses: This is an extension of a current information collection.

Section 6(b) of Public Law 92-205 requires that persons who engage in weather modification activities (e.g., cloud seeding) provide reports prior to and after the activity. They are also required to maintain certain records. The requirements are detailed in 15 CFR part 908. NOAA uses the data for scientific research, historical statistics, international reports and other purposes.

Affected Public: Business or other for-profit organizations; not-for-profit institutions; individuals or households; state, local or tribal government.

Frequency: Annually and on occasion.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue, NW., Washington, DC 20230 (or via the Internet at dHynek@doc.gov).

Written comments and recommendations for the proposed information collection should be sent within 30 days of publication of this notice to OIRA_Submission@omb.eop.gov.

Dated: July 18, 2011.
Gwellnar Banks,
Management Analyst, Office of the Chief Information Officer.

[FR Doc. 2011-18447 Filed 7-20-11; 8:45 am]

BILLING CODE 3510-KD-P